DEPARTMENT OF DEFENSE

Department of the Army, Corps of Engineers

33 CFR Chapter II

USACE's Plan for Retrospective Review Under E.O. 13563

AGENCY: U.S. Army Corps of Engineers, DoD.

ACTION: Extension of comment period.

SUMMARY: On November 16, 2011, the U.S. Army Corps of Engineers (USACE) issued a Notice of Intent and Request for Comments on its plan to retrospectively review its Regulations implementing the USACE Regulatory Program at 33 CFR 320-332 and 334 in accordance with Executive Order 13563, “Improving Regulation and Regulatory Review” (E.O.), issued on January 18, 2011, directs federal agencies to review existing significant regulations and identify those that can be made more effective or less burdensome in achieving regulatory objectives. The Regulations are essential for implementation of the Regulatory mission; thus, USACE believes they are a significant rule warranting review pursuant to E.O. 13563. The E.O. further directs each agency to periodically review its existing significant regulations to determine whether any such regulations should be modified, streamlined, expanded, or repealed so as to make the agency's regulatory program more effective or less burdensome in achieving the regulatory objectives. The original comment period ended on January 17, 2012. As a result of the request for time extensions, we have extended the comment period 45 days.

DATES: Written comments must be submitted on or before March 2, 2012.

ADDRESSES: You may submit comments, identified by docket number COE-2011-0028, by any of the following methods:

Federal eRulemaking Portal: http://www.regulations.gov. Follow the instructions for submitting comments.

Email: regulatory.review@usace.army.mil. Include the docket number, COE-2011-0028, in the subject line of the message.

Mail: U.S. Army Corps of Engineers, ATTN: CECW-CO-R (Ms. Amy S. Klein), 441 G Street NW., Washington, DC 20314-1000.

Hand Delivery/Courier: Due to security requirements, we cannot receive comments by hand delivery or courier.

Instructions: Instructions for submitting comments are provided in the original notice published on November 16, 2011 (76 FR 70927).

Docket: For access to the docket to read background documents or comments received, go to www.regulations.gov. All documents in the docket are listed. Although listed in the index, some information is not publicly available, such as CBI or other information whose disclosure is restricted by statute. Certain other material, such as copyrighted material, is not placed on the Internet and will be publicly available only in hard copy form.

FOR FURTHER INFORMATION CONTACT: Ms. Amy S. Klein, Headquarters, U.S. Army Corps of Engineers, Operations and Regulatory Community of Practice, Washington, DC 20314-1000, by phone at (202) 761-4559 or by email at regulatory.review@usace.army.mil.

SUPPLEMENTARY INFORMATION: Please refer to the original notice published on November 16, 2011 (76 FR 70927) for additional details. The original notice solicits comments regarding eight questions. These questions are not intended to be exhaustive, and respondents are encouraged to raise additional issues or make suggestions unrelated to these questions.

Dated: January 17, 2012.
Richard C. Lockwood,
Acting Chief, Operations and Regulatory Directorate of Civil Works.

[FR Doc. 2012-1269 Filed 1-20-12; 8:45 am]

BILLING CODE 3720-58-P